DEPARTMENT OF HEALTH AND HUMAN SERVICES

Health Resources and Services Administration

Agency Information Collection Activities: Proposed Collection: Public Comment Request; Information Collection Request Title: Chart Abstraction of Ryan White HIV/AIDS Program Recipient Data, OMB No. 0906-xxxx-New

AGENCY: Health Resources and Services Administration (HRSA), Department of Health and Human Services (HHS).

ACTION: Notice.

SUMMARY: In compliance with the requirement for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR should be received no later than July 9, 2019.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer, at (301) 443-1984.

SUPPLEMENTARY INFORMATION: When submitting comments or requesting information, please include the information request collection title for reference.

Information Collection Request Title: Chart Abstraction of Ryan White HIV/AIDS Program Data, OMB No. 0906-xxxx-New.

Abstract: HRSA's Ryan White HIV/AIDS Program (RWHAP) funds and coordinates with cities, states, and local clinics/community-based organizations to deliver efficient and effective HIV care, treatment, and support to low-income people with HIV. Nearly two-thirds of clients (patients) live at or below 100 percent of the Federal poverty level and approximately three-quarters of RWHAP clients are racial and ethnic minorities. Since 1990, the RWHAP has developed a comprehensive system of HIV service providers who deliver high quality direct health care and support services to over half a million people with HIV—more than 50 percent of all people with diagnosed HIV in the United States.

HRSA is required to assess the quality of care provided by RWHAP grant recipients. HHS guidelines (e.g., Guidelines for the Use of Antiretroviral Agents in Adults and Adolescents Living with HIV; Guidelines for the Prevention and Treatment of Opportunistic Infections in HIV- Infected Adults and Adolescents; and Sexually Transmitted Diseases Treatment Guidelines, 2015) and U.S. Preventative Services Task Force (USPSTF) guidelines serve as the basis for assessing the quality of care within the RWHAP. The purpose of the Chart Abstraction of RWHAP Data study is to assess the extent to which the care provided with funding from the RWHAP is meeting the HHS and USPSTF guidelines. The study will collect data from RWHAP service providers via a provider screening phone interview, a provider pre-site visit interview, and medical records data abstraction. The data will reflect the full range of HIV outpatient ambulatory health services, primary care, and screening and treatment for hepatitis, sexually transmitted infections (STIs), and opioid use disorder provided through the RWHAP and allow HRSA to assess the extent to which care provided with funding through the RWHAP meets the HHS and USPSTF guidelines.

Need and Proposed Use of the Information: National RWHAP client-level data is collected through the RWHAP Client Level Data Reporting System. The RWHAP Client Level Data Reporting System dataset (OMB control number 0915-0323) is HRSA's primary source of annual, client-level data collected from its nearly 2,000 funded grant recipients/service providers and the data have been used to assess the numbers and types of clients receiving services and limited HIV outcomes. However, the RWHAP Client Level Data Reporting System dataset does not include relevant data in order to fully assess the extent to which the care provided with funding from the RWHAP is meeting the HHS and USPSTF guidelines. This proposed new ICR will provide the full range of HIV outpatient ambulatory health services, primary care, and screening and treatment for hepatitis, STIs, and opioid use disorder data and allow HRSA to assess the extent to which care provided with funding through the RWHAP meets the HHS and USPSTF guidelines.

Likely Respondents: HRSA RWHAP Part A, Part B, Part C, and Part D service providers funded to deliver outpatient ambulatory health services to eligible clients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Provider Site screening interview | 100 | 1 | 100 | .5 | 50
Provider Pre-Site Visit Interview | 50 | 1 | 50 | 1 | 50
Medical Record Data Abstraction | 50 | 1 | 50 | 2 | 100
Total | 200 |  | 200 |  | 200

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2019-09666 Filed 5-9-19; 8:45 am]

BILLING CODE P